DEPARTMENT OF ENERGY

Federal Energy Regulatory Commission

[Docket No. IC22-33-000]

Commission Information Collection Activities (FERC-547); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-547 (Gas Pipeline Rates: Refund Report Requirements), which will be submitted to the Office of Management and Budget (OMB) for review.

DATES: Comments on the collection of information are due December 15, 2022.

ADDRESSES: Send written comments on FERC-547 to the Office of Management and Budget (OMB) through www.reginfo.gov/public/do/PRAMain, Attention: Federal Energy Regulatory Commission Desk Officer. Please identify the OMB Control Number 1902-0084 (Gas Pipeline Rates: Refund Report Requirements) in the subject line. Your comments should be sent within 30 days of publication of this notice in the Federal Register.

Please submit copies of your comments (identified by Docket No. IC22-33-000 and FERC-547) to the Commission as noted below. Electronic filing through https://www.ferc.gov is preferred.

• Electronic Filing: Documents must be filed in acceptable native applications and print-to-PDF, but not in scanned or picture format.

• For those unable to file electronically, comments may be filed by USPS mail or by hand (including courier) delivery:

Mail via U.S. Postal Service only, addressed to: Federal Energy Regulatory Commission, Secretary of the Commission, 888 First Street NE, Washington, DC 20426.

Hand (including courier) delivery to: Federal Energy Regulatory Commission, 12225 Wilkins Avenue, Rockville, MD 20852.

Please reference the specific collection number(s) (FERC-547) and/or title(s) (Gas Pipeline Rates: Refund Report Requirements) in your comments.

Instructions: OMB submissions must be formatted and filed in accordance with submission guidelines at: www.reginfo.gov/public/do/PRAMain. Using the search function under the “Currently Under Review field,” select “Federal Energy Regulatory Commission,” click “submit,” and select “comment” to the right of the subject collection. FERC submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION:

Title: Gas Pipeline Rates: Refund Report Requirements.

OMB Control No.: 1902-0084.

Type of Request: Three-year extension of the FERC-547 information collection requirements with no changes to the current reporting requirements.

Abstract: The Commission uses FERC-547 (Gas Pipeline Rates: Refund Report Requirements) to implement the statutory refund provisions governed by Sections 4 and 16 of the Natural Gas Act (NGA).¹ Section 4 authorizes the Commission to order a refund (with interest) for any portion of a natural gas company's increased rate or charge found to be unjust or unreasonable. Refunds may also be instituted by a natural gas company as a stipulation to a Commission-approved settlement agreement or a provision under the company's tariff. Section 16 of the NGA authorizes the Commission to prescribe rules and regulations necessary to administer its refund mandates. The Commission's refund reporting requirements are located in 18 CFR 154.501 (Refund Obligations) and 154.502 (Reports).

¹ 15 U.S.C. 717-717w.

The Commission uses the data collected in FERC-547 to monitor refunds owed by natural gas companies to ensure that the flow-through of refunds owed by these companies are made as expeditiously as possible and to assure that refunds are made in compliance with the Commission's regulations.

Type of Respondents: Natural gas companies.

Estimate of Annual Burden: ² Refund obligations occur following a Commission determination of unjust or unreasonable rates. Due to the nature of determinations on an ad hoc basis, the Commission estimate is based on the average number of refund obligations. The Commission estimates the annual public reporting burden for the information collection as:

² Burden is defined as the total time, effort, or financial resources expended by persons to generate, maintain, retain, or disclose or provide information to or for a Federal agency. For further explanation of what is included in the information collection burden, reference 5 Code of Federal Regulations 1320.3.

³ FERC staff estimates that industry costs for salary plus benefits are similar to Commission costs. The cost figure is the FY2022 FERC average annual salary plus benefits ($188,992/year or $91/hour).

FERC-547—Gas Pipeline Rates: Refund Report Requirements
Number of respondents | Number of responses per respondent | Total number of responses | Average burden hours & average cost ³ per response ($) | Total annual burden hours & total annual cost ($) | Cost per respondent ($)
(1) | (2) | (1) × (2) = (3) | (4) | (3) × (4) = (5) | (5) ÷ (1) = (6)
22 | 2 | 44 | 2 hrs.; $182 | 88 hrs.; $8,008 | $364

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 8, 2022.
Kimberly D. Bose,
Secretary.

[FR Doc. 2022-24816 Filed 11-14-22; 8:45 am]

BILLING CODE 6717-01-P